FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than May 2, 2024.

A. Federal Reserve Bank of Kansas City (Jeffrey Imgarten, Assistant Vice President) 1 Memorial Drive, Kansas City, Missouri, 64198-0001. Comments can also be sent electronically to KCApplicationComments@kc.frb.org:

1. Certain minor children of Jennifer L. Gotch Smith, all of Elk Point, South Dakota; and certain minor children of Brett J. Gotch, all of South Sioux City, Nebraska; to join the Gotch Family Control Group, a group acting in concert, to retain voting shares of Siouxland National Corporation, and thereby indirectly retain voting shares of Siouxland Bank, both of South Sioux City, Nebraska.

2. Robert Brandt and Barry Brandt, Unadilla, Nebraska; and the John D. Weber and Jane E. Weber Trust Agreement November 12, 2015, John Weber and Jane Weber, as co-trustees, all of Mesa, Arizona; to join the Brandt Family Group, a group acting in concert, to retain voting shares of UB, Inc., and thereby indirectly retain voting shares of Countryside Bank, both of Unadilla, Nebraska. Jane Weber was previously permitted by the Federal Reserve System to acquire control of voting shares of UB, Inc.

Board of Governors of the Federal Reserve System.
Erin Cayce,
Assistant Secretary of the Board.

[FR Doc. 2024-08213 Filed 4-16-24; 8:45 am]

BILLING CODE P